DEPARTMENT OF THE INTERIOR

Bureau of Indian Affairs

Electric Utility Power Rate and Service Fee Adjustment, Mission Valley Power

AGENCY: Bureau of Indian Affairs, Interior.

ACTION: Notice of proposed rate adjustment.

SUMMARY: The Bureau of Indian Affairs (BIA) proposes to adjust the electric power rates for operation and maintenance assessed to customers of the Mission Valley Power Utility. We request your comments on the proposed rate adjustment.

DATES: Interested parties may submit comments on the proposed rate adjustment. Comments must be submitted on or before February 12, 2002.

ADDRESSES: All comments on the proposed rate adjustment must be in writing and addressed to: Terrance Virden, Director, Office of Trust Responsibilities, Attn.: Irrigation and Power, MS-3061-MIB, Code 210, 1849 C Street, NW, Washington, DC 20240, Telephone (202) 208-5480.

FOR FURTHER INFORMATION CONTACT: Stanley Speaks, Regional Director, Bureau of Indian Affairs, Northwest Region Office, 911 NE 11th Avenue, Portland, Oregon 97232-4169, Telephone (503) 231-6702.

SUPPLEMENTARY INFORMATION:

What Is Mission Valley Power (MVP)?

MVP is a tribal enterprise of the Confederated Salish and Kootenai Tribes (CSKT) operating and maintaining the federally-owned power utility on the Flathead Indian Reservation under the authority of a Public Law 93-638 contract (25 U.S.C. 450f).

Where Can Information on the Regulatory and Legal Citations in This Notice Be Obtained?

You can contact the Northwest Regional Director's office at the location stated above or you can use the Internet site for the Government Printing Office at http://www.gpo.gov.

What Is the Purpose of This Notice?

This notice is to notify you that we propose to adjust the power rates and service fees for one of our power utilities. We are publishing this notice in accordance with the BIA's regulations governing its power rates and service fees of power utilities, specifically, 25 CFR 175.10-175.12. These sections provide for the fixing and announcing of power rates and related information for BIA Indian Electric Power Utilities.

What Authorizes Us To Issue This Notice?

Our authority to issue this notice is vested in the Secretary of the Interior by 5 U.S.C. 301, and the Act of August 7, 1946 (60 Stat. 895; 25 U.S.C. 385). The Secretary has delegated this authority to the Assistant Secretary—Indian Affairs under Part 209, Chapter 8.1A, of the Department of the Interior's Departmental Manual, and by memorandum dated January 25, 1994, from the Chief of Staff, Department of the Interior, to Assistant Secretaries, and Heads of Bureaus and Offices.

When Will the Rate Adjustment Be Effective?

The rate adjustment will be in effect starting on, and retroactive to, November 1, 2001.

How Do We Calculate Our Rates?

We calculate rates in accordance with 25 CFR 175.10 by estimating the cost of normal operation and maintenance at our power utility for which you receive service. Normal operation and maintenance mean the expenses we incur to provide direct support or benefit for the power utility's activities for administration, operation, maintenance, and rehabilitation. These costs are then applied as stated in the rate table in this notice.

What Kinds of Expenses Are Included in Determining Our Estimated Cost of Normal Operation and Maintenance?

We include the following expenses as prescribed in 25 CFR 175.10:

(a) Personnel salary and benefits for the utility engineer/manager and utility employees under their management control;

(b) Materials and supplies;

(c) Major and minor vehicle and equipment repairs;

(d) Equipment, including transportation, fuel, oil, grease, lease and replacement;

(e) Capitalization expenses;

(f) Acquisition expenses;

(g) Maintenance of a reserve fund available for contingencies or emergency expenses for, and insuring, reliable operation of the power system; and

(h) Other expenses we determine necessary to properly perform the activities and functions characteristic of a power utility.

When Should You Pay Your Power Bill?

We will mail you a bill for your power service and energy consumption. You should pay your bill no later than the due date stated on the bill. The due date is normally based on locally established payment requirements at each of our projects.

What Information Must We Collect for Billing Purposes and Why Are We Collecting It?

We must collect certain information from you to ensure we can properly process, bill for, and collect monies owed to the United States. We are required to collect the taxpayer identification number or social security number under the authority of, and as prescribed, in the Debt Collection Improvement Act of 1996. At a minimum, this information is:

(a) Full legal name of person or entity responsible for paying the bill;

(b) Adequate and correct address for mailing or hand delivering our bill; and

(c) The taxpayer identification number or social security number of the person or entity responsible for paying the bill.

What Can Happen If You Do Not Provide the Information We Require for Billing Purposes?

We can refuse to provide you service as prescribed in 25 CFR 175.21, 175.22.

What Can Happen if You Don't Pay Your Bill by the Due Date and Could This Affect Your Power Service?

If you do not pay your bill by the due date, you will receive a past due notice no less than 30 days after the due date. We have the right to refuse power service to your facility where the bill is past due for that facility. We can continue to refuse power service to that facility until you pay the past due bill or make payment arrangements that we agree to. When you receive your bill, it will have additional information concerning your rights. Our authority to demand payment of your past due bill is 31 CFR 901.2, “Demand for payment.”

Are There any Additional Charges if you Are Late Paying Your Bill?

Yes. We will use the value of funds to the United States as established by the Secretary of the Treasury to calculate the interest you will be assessed. You will not be assessed this charge until your bill becomes past due which occurs on the 31st day after the due date indicated on your bill. However, interest will accrue from the due date on your bill and you will be charged an administrative fee of $12.50 for each time we try to collect your past due bill. Should your bill become over 90 days past due, you will be assessed a penalty charge of 6 percent per annum and it will accrue from the date your bill initially became past due. Our authority to assess interest, penalties, and administration fees on past due bills is prescribed in 31 CFR 901.9, “Interest, penalties, and administration costs”.

What Else Can Happen to Your Past Due Bill?

If you do not pay your bill or make payment arrangements that we agree to, we are required to send your past due bill to the United States Treasury (Treasury) for further action. We must forward your bill to Treasury no later than 180 days after the original due date of your power bill. Our authority to send your bill to Treasury is prescribed in 31 CFR 901.1, “Aggressive agency collection activity”.

What Power Rates and Service Fees Are Proposed for Adjustment by This Notice?

The following table shows the proposed rate adjustment. Not all rates were adjusted. The rates that are proposed for adjustment are noted.

Rate class (• denotes proposed rate or fee adjustment) | Present rate | Proposed rate
Residential:
Basic charge per month | $5.00 | $5.00
Energy charge per kilowatt-hour | 0.04739 | 0.04739
• Minimum monthly charge (May 1-October 31) | 10.00 | ⁽¹⁾
• Minimum monthly charge (November 1-April 30) | 20.00 | ⁽¹⁾
• Minimum Monthly Charge (year round) | ⁽¹⁾ | 10.00
Small commercial without demand:
Basic charge per month | $5.00 | $5.00
• Energy Rate per kilowatt-hour | 0.05495 | 0.05495
Small commercial service with demand charge, rename to
General Service with demand charge:
Single phase service basic charge per month | 20.00 | 20.00
Three phase service basic charges per month | 40.00 | 40.00
• Demand charge per kilowatt of billing demand | 4.50 | 4.10
• Energy charge per kilowatt-hour | 0.04064 | 0.03735
Large commercial service:
Basic charge per month | 125.00 | 125.00
Demand charge per kilowatt of billing demand | 5.00 | 5.00
Energy charge per kilowatt-hour | 0.03115 | 0.03115
Irrigation pump service:
Seasonal charge (whichever is greater):
Minimum charge, or | 132.00 | 132.00
Charge per horsepower | 6.00 | 6.00
Monthly charge per rated horsepower of pump | 11.05 | 11.05
Energy charge per kilowatt-hour | 0.03586 | 0.03586
Area lighting rate class, monthly charge:
Install on existing pole or structure: | 6.87 | 7.20
• 7,000 lumen, mercury vapor unit (existing only) | 9.82 | 10.30
• 20,000 lumen, mercury vapor unit (existing only) | 6.36 | 6.70
• 9,000 lumen, high-pressure sodium unit | 8.60 | 9.00
• 22,000 lumen, high-pressure sodium unit
Install with new pole: | 8.62 | 9.05
• 7,000 lumen, mercury vapor unit (existing only) | 11.28 | 11.85
• 20,000 lumen, mercury vapor unit (existing only) | 8.12 | 8.50
• 9,000 lumen, high-pressure sodium unit | 10.32 | 10.85
• 22,000 lumen, high-pressure sodium unit
Street lighting service:
Metered Service (not including street light fixtures):
Basic monthly charge | 5.00 | 5.00
Energy charge | 0.05495 | 0.05495
Unmetered Service:
This rate class is available only to municipalities or communities for ten or more lighting units in a group. The charges for this service are subject to a negotiated contract with MVP. | (²) | (²)
Unmetered service charge per month:
• Charges for an unmetered service under the present rate structure are determined on an individual basis. The rate proposed for this service is a flat monthly charge (unmetered street light service is not part of this rate class). | (²) | 15.00
¹ Not used.
² Negotiated.

Consultation and Coordination With Tribal Governments (Executive Order 13175)

The CSKT operates the utility under a Public Law 93-638 contract. As part of the contractual relationship, there are continuing consultations between the CSKT and the BIA. These consultations meet the spirit and intent of the Executive Order.

Actions Concerning Regulations That Significantly Affect Energy Supply, Distribution, or Use (Executive Order 13211)

This is a notice for a proposed rate adjustment at a BIA owned electric power utility. These rate adjustments will have no adverse effects on energy supply, distribution, or use (including a shortfall in supply, price increases, and increased use of foreign supplies) should the proposed rate adjustment be implemented.

Regulatory Planning and Review (Executive Order 12866)

This rate adjustment is not a significant regulatory action and does not need to be reviewed by the Office of Management and Budget under Executive Order 12866.

Regulatory Flexibility Act

This rate adjustment is not a rule for the purposes of the Regulatory Flexibility Act because it is “a rule of particular applicability relating to rates”. 5 U.S.C. 601(2)(1996).

Unfunded Mandates Act of 1995

This rate adjustment imposes no unfunded mandates on any governmental or private entity and is in compliance with the provisions of the Unfunded Mandates Act of 1995.

Takings (Executive Order 12630)

The Department has determined that this rate adjustment does not have significant “takings” implications. The rate adjustment does not deprive the public, state, or local governments of rights or property.

Federalism (Executive Order 13132)

The Department has determined that this rate adjustment does not have significant Federalism effects because it pertains solely to Federal-tribal relations and will not interfere with the roles, rights, and responsibilities of states.

Civil Justice Reform (Executive Order 12988)

In accordance with Executive Order 12988, the Office of the Solicitor has determined that this rule does not unduly burden the judicial system and meets the requirements of sections 3(a) and 3(b)(2) of the Order.

Paperwork Reduction Act of 1995

This rate adjustment does not affect the collections of information which have been approved by the Office of Information and Regulatory Affairs, Office of Management and Budget (OMB), under the Paperwork Reduction Act of 1995. The OMB control number is 1076-0141 and expires November 30, 2002.

National Environmental Policy Act

The Department has determined that this rate adjustment does not constitute a major Federal action significantly affecting the quality of the human environment and that no detailed statement is required under the National Environmental Policy Act of 1969 (42 U.S.C. 4321) et. seq. (1996).

Dated: December 3, 2001.
Neal A. McCaleb,
Assistant Secretary—Indian Affairs.

[FR Doc. 01-30882 Filed 12-13-01; 8:45 am]

BILLING CODE 4310-02-P